DEPARTMENT OF TRANSPORTATION

Federal Highway Administration

New York State Department of Transportation (NYSDOT); Environmental Impact Statement: Monroe County, New York

AGENCY: Federal Highway Administration (FHWA), DOT.

ACTION: Revised Notice of Intent.

SUMMARY: The FHWA is issuing this revised notice to advise the public that FHWA and NYSDOT will not be preparing an Environmental Impact Statement (EIS) for the proposed improvements to extend Route 531 in the Towns of Ogden and Sweden, Monroe County, New York (NYSDOT Project Identification Number: 4531.05). A Notice of Intent to prepare an EIS was published in the Federal Register on January 14, 2005.

FOR FURTHER INFORMATION CONTACT: Jeffrey W. Kolb, Division Administrator, Federal Highway Administration, New York Division, Leo W. O'Brien Federal Building, 9th Floor, Clinton Avenue and North Pearl Street, Albany, New York 12207, Telephone: (518) 431-4127.

Or

Robert A. Traver, Acting Regional Director, New York State Department of Transportation Region 4; 1530 Jefferson Road, Rochester, New York 14623, Telephone: (585) 272-3310.

SUPPLEMENTARY INFORMATION: The FHWA, in cooperation with the New York State Department of Transportation (NYSDOT) will not prepare an EIS as previously intended on a proposal to extend Route 531 in Monroe County, New York. The purpose of the Route 531 Extension study was to develop improvements to the 6.5 mile long corridor that could provide for the existing and projected traffic demand and to address highway safety. During the scoping phase of the project however, the results of traffic studies and accident analysis indicated that future Route 31 traffic will operate at capacity during the commuter peak. As such, most of the traffic problems, other than those at the current Route 531 terminus with Route 36, will not occur until 15 years or more in the future. The study indicated that few highway improvements are required other than addressing the Route 531 terminus and identified safety issues within the study area. The improvements being considered will not have a significant impact on the environment and will be progressed as Categorical Exclusion(s).

(Catalog of Federal Domestic Assistance Program Number 20.205, Highway Planning and Construction. The regulations implementing Executive Order 12372 regarding intergovernmental consultation on Federal programs and activities apply to this program.)

Authority: 23 U.S.C. 315; 23 CFR 771.123.

Issued on: June 10, 2010.
Jeffrey W. Kolb,
Division Administrator, Federal Highway Administration, Albany, New York.

[FR Doc. 2010-14863 Filed 6-18-10; 8:45 am]

BILLING CODE 4910-22-M